DEPARTMENT OF ENERGY

Federal Energy Regulatory Commission

[Project No. 2503-192]

Duke Energy Carolinas, LLC; Notice of Availability of Environmental Assessment

In accordance with the National Environmental Policy Act of 1969 and the Federal Energy Regulatory Commission's (Commission) regulations, 18 CFR part 380, Commission staff reviewed Duke Energy Carolina's LLC's (licensee) non-project use of project lands and water application for the Keowee-Toxaway Hydroelectric Project No. 2503, and has prepared an Environmental Assessment (EA).¹ The licensee requests Commission approval to grant Pickens Regional Joint Water System a 0.37 acre easement to construct, operate, and maintain a raw water intake facility with a gross maximum instantaneous water withdrawal rate of 16.5 million gallons per day (MGD) and a gross maximum average annual withdrawal rate of 12 MGD. Proposed construction within the project boundary includes screened intake pipes, shoreline stabilization, and a floating dock. The Keowee-Toxaway Project is located on the Toxaway, Keowee, and Little Rivers in Transylvania County, North Carolina, and Oconee and Pickens counties, South Carolina, and is not located on federal lands. The proposed water withdrawal facility easement would be located on Lake Keowee northeast of the Oconee Nuclear Station and southwest of Warpath Landing.

¹ The unique identification number for documents relating to this environmental review is EAXX-019-20-000-1753198064.

The EA contains Commission staff's analysis of the potential environmental effects of the non-project use of project lands and water, and concludes that with appropriate environmental protective measures, the proposed action would not constitute a major federal action that would significantly affect the quality of the human environment.

The EA may be viewed on the Commission's website at http://www.ferc.gov using the “eLibrary” link. Enter the docket number (P-2503) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

For public inquiries and assistance with making filings such as interventions, comments, or requests for rehearing, contact the Office of Public Participation at (202) 502-6595 or OPP@ferc.gov.

For further information, contact Robert Ballantine at 202-502-6289 or robert.ballantine@ferc.gov.

(Authority: 18 CFR 2.1)

Dated: December 3, 2025.
Carlos D. Clay,
Deputy Secretary.

[FR Doc. 2025-22181 Filed 12-5-25; 8:45 am]

BILLING CODE 6717-01-P